SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget, Attn: Desk Officer for SSA, Fax: 202-395-6974.

(SSA) Social Security Administration, DCFAM, Attn: Reports Clearance Officer, 1333 Annex Building, 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Work Activity Report—Employee—20 CFR 404.1520(b), 404.1571-.1576, 404.1584-.1593, and 416.971-.976—0960-0059. Form SSA-821-BK collects information that provides evidence necessary to determine initial or continuing eligibility for Supplemental Security Income (SSI) or Social Security disability benefits. An individual's entitlement to benefits ends if he/she demonstrates an ability to perform substantial gainful activity (SGA). This form is used to determine whether work an individual performs in employment is at the SGA level. The respondents are Social Security disability applicants and beneficiaries; and SSI applicants.

Type of Request: Extension of an OMB-approved information collection.

Number of Respondents: 300,000.

Frequency of Response: 1.

Average Burden per Response: 45 minutes.

Estimated Annual Burden: 225,000 hours.

2. Homeless Outreach Project and Evaluation (HOPE)—0960-0704. Background. Congress passed the McKinney Act of 1987 in recognition of and in an effort to address situations and conditions facing people without permanent shelter. The Act funded 15 emergency services and nine individual titles to authorize the provision of specific programs by Federal agencies. The Act also established the Interagency Council on Homelessness (ICH) composed of leaders from 15 Federal agencies who are in charge of coordinating efforts to assist people who are homeless. During the past decade, SSA and other ICH agencies have compiled important data about people who are homeless and have carried out evaluations of services which have generated evidence about “best” or “promising practices” well suited to combating homelessness.

In fiscal year 2003, President George W. Bush announced an initiative to end chronic homelessness in 10 years. As a result, SSA developed Project HOPE and in May 2004 awarded 34 Cooperative Agreements to organizations which provide outreach, support services and benefit application assistance to the chronically homeless and other underserved populations. An additional 7 cooperative agreements were awarded in November 2004 for a total of 41. The goal of Project HOPE is to improve both the quantity and quality of applications for disability benefits. Project HOPE gives focused support to Cooperative (co-op) awardees via a training program and ongoing technical assistance.

Evaluation of Project HOPE. SSA uses the project HOPE evaluation to determine the effectiveness and the efficiency of the program. To obtain the information needed for the evaluation, SSA has developed an interactive Web site that is used by co-op awardees to input client and program data, and by SSA to communicate project-wide announcements to the awardees. The respondents are HOPE grantees/non-profit social services organizations serving people who are homeless and disabled.

Type of Request: Extension of an OMB-approved information collection.

Number of Respondents: 41.

Frequency of Response: 12.

Average Burden Per Response: 65 minutes.

Estimated Annual Burden: 533 hours.

3. Report to United States Social Security Administration by Person Receiving Benefits for a Child or for an Adult Unable to Handle Funds and Report to United States Social Security Administration—0960-0049. SSA needs the information on Form SSA-7161-OCR-SM to monitor the performance of representative payees outside the U.S. and the information on SSA-7162-OCR-SM to determine continuing entitlement to Social Security benefits and correct benefit amounts for beneficiaries outside the U.S. The respondents are individuals outside the U.S. who are receiving benefits either for someone else, or on their own behalf under title II of the Social Security Act.

Type of Request: Revision of an OMB-approved information collection.

Forms | Number of respondents | Frequency of response | Average burden per response (in minutes) | Burden hours
SSA-7161-OCR-SM | 30,000 | 1 | 15 | 7,500
SSA-7162-OCR-SM | 227,000 | 1 | 5 | 18,917
Totals | 257,000 |  |  | 26,417

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Report of New Information in Disability Cases—20 CFR 404.460, 404.468, 404.408, and 404.1588—0960-0071. The information collected on the form SSA-612 is used to update the disability records of a respondent based on reported changes contained in the form. These changes may affect the respondent's Title II disability benefits. The respondents are applicants for Title II disability benefits.

Type of Request: Extension of an OMB-approved information collection.

Number of Respondents: 27,000.

Frequency of Response: 1.

Average Burden per Response: 5 minutes.

Estimated Annual Burden: 2,250 hours.

2. Statement of Marital Relationship (By one of the parties)—20 CFR 404.726—0960-0038. SSA uses the information collected on Form SSA-754-F4 to determine whether the conditions for establishing a common-law marriage under state law are met. The respondents are applicants for spouse's benefits.

Type of Request: Extension of an OMB-approved information collection.

Number of Respondents: 30,000.

Frequency of Response: 1.

Average Burden per Response: 30 minutes.

Estimated Annual Burden: 15,000 hours.

3. Employee Verification Service (EVS)—0960-0669. Background. Under Internal Revenue Service regulations, employers are required to provide wage and tax data to SSA using form W-2, Wage and Tax Statement or its electronic equivalent. As part of this process, the employer must furnish the employee's name and Social Security Number (SSN). This information must match SSA's records in order for the employee's wage and tax data to be properly posted to the earnings record. Information that is incorrectly provided to the Agency must be corrected by the employer using an amended reporting form, which is a labor-intensive and time-consuming process for both SSA and the employer. Therefore, to help ensure that employers provide accurate name and SSN information on their wage reports, SSA offers the EVS service whereby employers can verify, via magnetic tape, cartridge, diskette, paper, and telephone, if the reported name and SSN of their employee matches SSA's records.

EVS Collection. SSA will use the information collected through the EVS to verify that the employee name and SSN information, provided by employers, matches SSA records. SSA will respond to the employer informing them only of matches and mismatches of submitted information. Respondents are employers who provide wage and tax data to SSA who elect to use EVS to verify their employees' names and SSNs.

Type of Request: Extension of an OMB-Approved Information Collection.

Number of Respondents: 50,000.

Frequency of Response: 12.

Average Burden per Response: 10 minutes.

Estimated Annual Burden: 100,000 hours.

4. Application for Parent's Insurance Benefits—20 CFR 404.370-404.374, 20 CFR 404.601-404.603—0960-0012. Form SSA-7-F6 collects information to entitle an individual to his parent's insurance benefits. The respondents are individuals who wish to apply to receive their parent's insurance benefits.

Type of Request: Revision of an OMB-approved information collection.

Number of Respondents: 1,400.

Frequency of Response: 1.

Average Burden per Response: 15 minutes.

Estimated Annual Burden: 350 hours.

5. Application for Supplemental Security Income—20 CFR 416.305-416.335—0960-0444. The information collected on the SSA-8001-BK is needed and used to determine eligibility for SSI, and the amount of SSI benefits payable to the applicant. Respondents are applicants for SSI benefits.

Type of Request: Revision of an OMB-approved information collection.

Title of collection | Number of respondents | Frequency of response | Average burden per response (in minutes) | Burden hours
MISSICS | 840,088 | 1 | 16 | 224,023
MISSICS/Signature Proxy | 280,029 | 1 | 15 | 70,007
Paper | 25,982 | 1 | 19 | 8,228
Paper/Signature Proxy | 8,661 | 1 | 18 | 2,598
Totals | 1,154,760 |  |  | 304,856

6. Medical Source Statement of Ability To Do Work Related Activities (Physical and Mental)—20 CFR 404.1512-404.1514, 404.912-404.914, 404.1517, 416.917, 404.1519-404.1520, 416.919-416.920, 404.946, 416.946—0960-0662. The HA-1151 and HA-1152 are used to collect data that is required to determine the residual functional capacity (RFC) of individuals who are appealing denied claims for benefits based on disability. RFC must be determined to decide cases that cannot be decided based on current work activity or on medical facts alone. The respondents are medical sources that are paid by SSA to provide reports based either on existing medical evidence or on consultative examinations conducted for the purposes of the report. We estimate each respondent will submit approximately 20 responses per year.

Type of Request: Revision of an OMB-approved information collection.

Forms | Number of respondents | Frequency of response | Average burden per response (in minutes) | Burden hours
HA-1151 | 5,000 | 20 | 15 | 25,000
HA-1152 | 5,000 | 20 | 15 | 25,000
Totals | 10,000 |  |  | 50,000

Dated: December 30, 2005.
Elizabeth A. Davidson,
Reports Clearance Officer, Social Security Administration.

[FR Doc. E6-34 Filed 1-5-06; 8:45 am]

BILLING CODE 4191-02-P